DEPARTMENT OF COMMERCE

International Trade Administration

[A-560-801, A-570-844, A-583-825]

Notice of Final Results

AGENCY: Import Administration, International Trade Administration, Department of Commerce.

ACTION: Notice of Final Results of Five-Year Sunset Reviews and Revocation of Antidumping Duty Orders on Melamine Institutional Dinnerware from Indonesia (A-560-801), the People's Republic of China (A-570-844), and Taiwan (A-583-825).

SUMMARY: On January 2, 2002, the Department of Commerce (“the Department”) initiated sunset reviews of the antidumping duty orders on melamine institutional dinnerware (“dinnerware”) from Indonesia, the People's Republic of China (“PRC”) and Taiwan (67 FR 57). Because no domestic interested party responded to the sunset review notice of initiation by the applicable deadline, the Department is revoking these orders.

EFFECTIVE DATE: February 25, 2002.

FOR FURTHER INFORMATION CONTACT: Martha V. Douthit or James P. Maeder, Office of Policy, Import Administration, International Trade Administration, U.S. Department of Commerce, 14th Street and Constitution Avenue, NW., Washington, DC 20230; telephone: (202) 482-5050 or (202) 482-3330, respectively.

SUPPLEMENTARY INFORMATION:

The Applicable Statute

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR part 351 (2001).

Background

On February 25, 1997, the Department issued the antidumping duty orders on dinnerware from Indonesia, China, and Taiwan, and amended final determination of sales at less than fair value on dinnerware from Indonesia (62 FR 8426). Pursuant to section 751(c) of the Tariff Act of 1930, as amended (“the Act”) and 19 CFR 351.218, the Department initiated sunset reviews of these orders by publishing a notice of the initiation in the Federal Register, January 2, 2002, (67 FR 57). In addition, as a courtesy to interested parties, the Department sent letters, via certified and registered mail, to each party listed on the Department's most current service list for these proceedings to inform them of the automatic initiation of a sunset review of these orders.

No domestic interested parties in any of these sunset reviews of these orders responded to the notice of initiation by the January 17, 2002, deadline (see 351.218 (d)(1)(i).

Determination to Revoke

Pursuant to section 751(c)(3)(A) of the Act and 19 CFR 351.218(d)(1)(iii)(B)(3), if no domestic interested party responds to the notice of initiation, the Department shall issue a final determination, within 90 days after the initiation of the review, revoking the order. Because no domestic interested party responded to the notice of initiation by the applicable deadline, January 17, 2002 (see 19 CFR 351.218 (d)(1)(i) and 19 CFR 351.218 (e)(1)(i)(C)(1)) of the Sunset Regulations)), we are revoking these antidumping duty orders.

Effective Date of Revocation

In accordance with sections 751(c)(3)(A) and 751(d)(2) of the Act, and 19 CFR 351.222(i)(2)(i), the Department will instruct the Customs Service to terminate the suspension of liquidation of the merchandise subject to these orders entered, or withdrawn from warehouse, on or after February 25, 2002. Entries of subject merchandise prior to the effective date of revocation will continue to be subject to suspension of liquidation and antidumping/countervailing duty deposit requirements. The Department will complete any pending administrative reviews of these orders and will conduct administrative reviews of subject merchandise entered prior to the effective date of revocation in response to appropriately filed requests for review.

Dated: February 12, 2002.
Faryar Shirzad,
Assistant Secretary for Import Administration.

[FR Doc. 02-3970 Filed 2-15-02; 8:45 am]

BILLING CODE 3510-DS-P